DEPARTMENT OF DEFENSE

Office of the Secretary

[Transmittal No. 21-39]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-39 with attached Policy Justification and Sensitivity of Technology.

Dated: January 31, 2023.
Aaron T. Siegel,
Alternate OSD Federal Register Liaison Officer, Department of Defense.

BILLING CODE 5001-06-P

BILLING CODE 5001-06-C

Transmittal No. 21-39

Notice of Proposed Issuance of Letter of Offer Pursuant to Section 36(b)(1) of the Arms Export Control Act, as amended

(i) Prospective Purchaser: Government of Greece

(ii) Total Estimated Value:

Major Defense Equipment * | $ 0 million
Other | $165 million
TOTAL | $165 million
* Funding Source: National Funds

(iii) Description and Quantity or Quantities of Articles or Services under Consideration for Purchase:

Major Defense Equipment (MDE):

None

Non-MDE:

Included are U.S. Government, technical, and logistics support services and requisitions supporting the Foreign Military Sales Order II (FMSO II) and Cooperative Logistics Supply Support Arrangement (CLSSA) for stock replenishment, supply of standard spare parts, and repair/replace of spare parts to support the Hellenic Air Force's defensive and transport aerial fleets; all other aircraft systems and subsystems; and other related elements of program support.

(iv) Military Department: Air Force (GR-D-KIX)

(v) Prior Related Cases, if any: GR-D-KAA, GR-D-KIW

(vi) Sales Commission, Fee, etc. Paid, Offered, or Agreed to be Paid: None

(vii) Sensitivity of Technology Contained in Defense Article or Defense Services Proposed to be Sold: None

(viii) Date Report Delivered to Congress: May 19, 2021

* As defined in Section 47(6) of the Arms Export Control Act.

Policy Justification

Greece—FMSO II, CLSSA Services

The Government of Greece has requested to buy U.S. Government, technical, and logistics support services and requisitions supporting the Foreign Military Sales Order II (FMSO II) and Cooperative Logistics Supply Support Arrangement (CLSSA) for stock replenishment, supply of standard spare parts, and repair/replace of spare parts to support the Hellenic Air Force's defensive and transport aerial fleets; all other aircraft systems and subsystems; and other related elements of program support. The estimated total cost is $165 million.

This proposed sale will support the foreign policy and national security objectives of the United States by helping to improve the security of a NATO ally, which is an important partner for political stability and economic progress in Europe.

The proposed sale will improve Greece's capability to meet current and future threats by providing agile logistics support to active Foreign Military Sales support cases, including Greece's defensive and transport aerial fleets, as well as other support equipment of U.S. origin that are currently in use with the Hellenic Air Force and which can be supported by the CLSSA program. The ability to place blanket order requisitions will increase its interoperability with NATO forces and enhance its ability to provide for the security of its borders. Greece has demonstrated a continued commitment to modernizing its military and will have no difficulty absorbing this equipment into its armed forces.

The proposed sale of these services will not alter the basic military balance in the region.

There are no principal contractors for this proposed sale. There are no known offset agreements proposed in connection with this potential sale.

Implementation of this proposed sale will not require the assignment of any additional U.S. Government or contractor representatives outside the United States.

There will be no adverse impact on U.S. defense readiness as a result of this proposed sale.

[FR Doc. 2023-02374 Filed 2-3-23; 8:45 am]

BILLING CODE 5001-06-P